DEPARTMENT OF HEALTH AND HUMAN SERVICES

Food and Drug Administration

[Docket No. FDA-2011-N-0002]

Request for Nominations for Voting Members on Public Advisory Committee, Science Board to the Food and Drug Administration

AGENCY: Food and Drug Administration, HHS.

ACTION: Notice.

The Food and Drug Administration (FDA) is requesting nominations for voting members to serve on the Science Board to the FDA (the Science Board).

FDA has special interest in ensuring that women, minority groups, and individuals with disabilities are adequately represented on advisory committees and, therefore, encourages nominations of qualified candidates from these groups.

DATES: Nominations received on or before December 28, 2011, will be given first consideration for membership on the Science Board. Nominations received after December 28, 2011, will be considered for nomination to the Science Board should nominees still be needed.

ADDRESSES: All nominations for membership should be sent electronically to CV@FDA.HHS.GOV, or by mail to Advisory Committee Oversight & Management Staff, 10903 New Hampshire Ave., Bldg. 32, Rm. 5103, Silver Spring, MD 20993-0002.

FOR FURTHER INFORMATION CONTACT: Regarding all nomination questions for membership, the primary contact is: Martha Monser, Office of the Chief Scientist, Food and Drug Administration, 10903 New Hampshire Ave., Bldg. 32, Rm. 4286, Silver Spring, MD 20993-0002, (301) 796-4627, email: martha.monser@fda.hhs.gov.

Information about becoming a member on an FDA advisory committee can also be obtained by visiting FDA's Web site by using the following link: http://www.fda.gov/oc/advisory/default.htm.

SUPPLEMENTARY INFORMATION: FDA is requesting nominations for voting members on the Science Board.

I. General Function of the Committee

The Science Board shall provide advice primarily to the Commissioner of Food and Drugs (the Commissioner) and other appropriate officials on both general and specific scientific and technical issues as well as emerging issues within the scientific community. Additionally, the Science Board will provide advice to the Agency on keeping pace with technical and scientific advances in the fields of regulatory science; on formulating an appropriate research agenda; and on upgrading its scientific and research facilities to keep pace with these changes. It will also provide the means for critical review of Agency strategic science plan and its implementation as well as of related intramural and extramural scientific research and training.

II. Criteria for Voting Members

Members and the Chair are selected by the Commissioner or designee from among authorities knowledgeable in the fields of food safety, nutrition, chemistry, pharmacology, toxicology, clinical research, and other scientific disciplines. Members shall represent academia and industry. The Science Board may include one technically qualified member, selected by the Commissioner or designee, who is identified with consumer interests and is either recommended by either a consortium of consumer oriented organizations or other interested persons. The Science Board may also include technically qualified federal members. FDA is currently specifically seeking persons knowledgeable in the fields of pharmacology, translational and clinical medicine, toxicology, clinical research and related biostatistics, public health and epidemiology, international public health and regulation, product safety, product manufacturing sciences and quality or other scientific areas relevant to FDA regulated products such as systems biology, advanced scientific informatics, nanotechnology, food sciences, medical devices and combination products.

III. Nomination Procedures

Any interested person may nominate one or more qualified persons for membership on the Science Board. Self nominations are also accepted. Nominations shall include the name of the committee, complete curriculum vitae of each nominee, and their current business address and telephone number and email address if available. Nominations must specify the advisory committee for which the nominee is recommended. Nominations must also acknowledge that the nominee is aware of the nomination, unless self nominated. FDA will ask potential candidates to provide detailed information concerning such matters as financial holdings, employment, and research grants and/or contracts.

This notice is issued under the Federal Advisory Committee Act (5 U.S.C. app. 2) and 21 CFR part 14 relating to advisory committees.

Dated: November 21, 2011.
Jill Hartzler Warner,
Acting Associate Commissioner for Special Medical Programs.

[FR Doc. 2011-30415 Filed 11-25-11; 8:45 am]

BILLING CODE 4160-01-P